DEPARTMENT OF HEALTH AND HUMAN SERVICES

Administration for Community Living

Agency Information Collection Activities; Proposed Collection; Comment Request; Chronic Disease Self-Management Education Program Standardized Data Collection

AGENCY: Administration on Aging (AoA), Administration for Community Living (ACL), HHS.

ACTION: Notice.

SUMMARY: The Administration for Community Living (ACL), Administration on Aging (AoA) is announcing that the proposed collection of information listed below has been submitted to the Office of Management and Budget (OMB) for review and clearance under the Paperwork Reduction Act of 1995.

DATES: Submit written or electronic comments on the collection of information by July 1, 2016.

ADDRESSES: Submit electronic comments on the collection of information to: Submit written comments on the collection of information to by fax 202.395.5806 or by email to OIRA_submission@omb.eop.gov, Attn: OMB Desk Officer for ACL.

FOR FURTHER INFORMATION CONTACT: Kristie Kulinski (kristie.kulinski@acl.hhs.gov).

SUPPLEMENTARY INFORMATION: In compliance with 44 U.S.C. 3507, the Administration for Community Living has submitted the following proposed collection of information to OMB for review and clearance.

The “Empowering Older Adults and Adults with Disabilities through Chronic Disease Self-Management Education (CDSME) Programs” cooperative agreement program has been financed through Prevention and Public Health Funds (PPHF), most recently by FY2015 PPHF funds. The proposed data collection is necessary for monitoring grant program operations and outcomes. AoA proposes to gather information to monitor grantee progress, record location of sites where workshops are held which will allow mapping of the delivery infrastructure, and document participant attendance and demographic and health characteristics.

The proposed data collection tools may be found on the AoA Web site at: http://www.aoa.acl.gov/AoA_Programs/Tools_Resources/collection_tools.aspx. ACL estimates the burden of this collection of information as 128 hours for grantee staff, 220 hours for local agency staff and volunteers, and 92 hours for individuals—total burden is 440 hours per year. This assumes a data collection sample of 386 workshops.

Dated: May 25, 2016.
Kathy Greenlee,
Administrator and Assistant Secretary for Aging.

[FR Doc. 2016-12866 Filed 5-31-16; 8:45 am]

BILLING CODE 4154-01-P